DEPARTMENT OF THE INTERIOR

Bureau of Ocean Energy Management

[Docket No. BOEM-2023-0030]

Notice of Availability of a Draft Environmental Impact Statement for Atlantic Shores Offshore Wind Project 1, LLC and Atlantic Shores Offshore Wind Project 2, LLC's Proposed Wind Energy Facilities Offshore New Jersey

AGENCY: Bureau of Ocean Energy Management (BOEM), Interior.

ACTION: Notice of availability; request for comments.

SUMMARY: BOEM announces the availability of the draft environmental impact statement (DEIS) for the construction and operations plan (COP) submitted by Atlantic Shores Offshore Wind Project 1, LLC and Atlantic Shores Offshore Wind Project 2, LLC for their proposed Atlantic Shores South Wind Project (Project) offshore New Jersey. The DEIS analyzes the potential environmental impacts of the Project as described in the COP (the proposed action) and the alternatives to the proposed action. This notice of availability (NOA) announces the start of the public review and comment period, as well as the dates and times for public hearings on the DEIS. After BOEM holds the public hearings and addresses public comments submitted during the review period, BOEM will publish a final environmental impact statement (EIS). The EIS will inform BOEM's decision whether to approve, approve with modifications, or disapprove the COP.

DATES: Comments must be received no later than July 3, 2023. BOEM's public hearings will be held on the following dates at the times (eastern time) indicated.

• Holiday Inn Manahawkin/Long Beach Island, 151 Route 72 West, Manahawkin, NJ 08050; Wednesday, June 21, 2023; 5:00 p.m.

• Atlantic City Convention Center, 1 Convention Blvd., Atlantic City, NJ 08401; Thursday, June 22, 2023; 5:00 p.m.

• Virtual, Monday, June 26, 2023; 1:00 p.m.

• Virtual, Wednesday, June 28, 2023; 5:00 p.m.

Registration for in person meetings is not required. Registration for the virtual public hearing is required and may be completed at https://www.boem.gov/renewable-energy/state-activities/atlantic-shores-south or by calling (702) 338-4766. Meeting information will be sent to registrants via their email address provided during registration.

ADDRESSES: The DEIS and detailed information about the Project, including the COP, can be found on BOEM's website at: https://www.boem.gov/renewable-energy/state-activities/atlantic-shores-south. Comments can be submitted in any of the following ways:

• Orally or in written form during any of the public hearings identified in this NOA.

• In written form by mail or any other delivery service, enclosed in an envelope labeled “Atlantic Shores South DEIS” and addressed to Chief, Office of Renewable Energy Programs, Bureau of Ocean Energy Management, 45600 Woodland Road, Sterling, VA 20166.

• Through the regulations.gov web portal: Navigate to http://www.regulations.gov and search for Docket No. BOEM-2023-0030. Click on the “Comment” button below the document link. Enter your information and comment, then click “Submit Comment.”

For more information about submitting comments, please see “Information on Submitting Comments” under the SUPPLEMENTARY INFORMATION heading below.

FOR FURTHER INFORMATION CONTACT: Jessica Stromberg, BOEM Office of Renewable Energy Programs, 45600 Woodland Road, Sterling, Virginia 20166, (703) 787-1730 or jessica.stromberg@boem.gov.

SUPPLEMENTARY INFORMATION:

Proposed Action: Atlantic Shores Offshore Wind Project 1, LLC and Atlantic Shores Offshore Wind Project 2, LLC (collectively Atlantic Shores) seek approval to construct, own, operate, and maintain the Project, which would consist of two wind energy facilities (Project 1 and Project 2) and their associated export cables on the Outer Continental Shelf (OCS) offshore New Jersey. The Project would be developed within the range of design parameters outlined in the COP, subject to applicable mitigation measures.

The Project would be located about 8.7 statute miles (14 kilometers (km)) offshore New Jersey in the area defined in BOEM's renewable energy lease OCS-A 0499 (Lease Area). The Lease Area covers approximately 102,124 acres (413.3-km²). Project 1 is located in the western 54,175 acres (219.2 km²) of the Lease Area, and Project 2 is located in the eastern 31,847 acres (128.9 km²) of the Lease Area, with a 16,102 acre (65.2-km²) overlap area that could be used by either Project 1 or Project 2. The Project would comprise up to 200 total wind turbine generators (WTGs) (between 105 and 136 WTGs for Project 1 and between 64 and 95 WTGs for Project 2), up to 10 offshore substations (up to 5 in each project), 1 permanent meteorological (met) tower, up to 4 temporary meteorological and oceanographic (metocean) buoys (1 met tower and up to 3 metocean buoys in Project 1 and 1 metocean buoy in Project 2), inter-array and inter-link cables, up to 2 onshore substations, 1 operations and maintenance facility, and up to 8 transmission cables making landfall at up to 2 New Jersey locations: the Atlantic County landfall site in Atlantic City, New Jersey, or the Monmouth County landfall site in Sea Girt, New Jersey, or both. Project 1 proposes to produce 1,510 MW. The MW for Project 2 has not been determined as Atlantic Shores is still seeking an offtake power agreement for Project 2.

Alternatives: BOEM considered 21 alternatives when preparing the DEIS and carried forward 6 alternatives for further analysis in the DEIS. These 6 alternatives include 5 action alternatives and the no action alternative. BOEM did not analyze in detail 15 of the 21 alternatives because they did not meet the purpose and need for the proposed action or did not meet screening criteria, which are presented in chapter 2 of the DEIS. The screening criteria included consistency with law and regulations, technical and economic feasibility, environmental impact, and geographic considerations.

Availability of the DEIS: The DEIS, COP, and associated information are available on BOEM's website at: https://www.boem.gov/renewable-energy/state-activities/atlantic-shores-south. BOEM has distributed digital copies of the DEIS to all parties listed in appendix M of the DEIS, which also includes the location of all libraries receiving a copy. If you require a digital copy on a flash drive or paper copy, BOEM will provide one upon request, if supplies are available. You may request a flash drive or paper copy of the DEIS by contacting Kimberly Sullivan at (702) 338-4766 or Kimberly.Sullivan@boem.gov.

Cooperating Agencies: The following nine Federal agencies and State governmental entities participated as cooperating agencies in the preparation of the DEIS: Bureau of Safety and Environmental Enforcement, U.S. Environmental Protection Agency, National Marine Fisheries Service, U.S. Army Corps of Engineers, U.S. Coast Guard, U.S. Fish and Wildlife Service, New Jersey Department of Environmental Protection, New Jersey Board of Public Utilities, and New York State Department of State. The National Park Service and the Advisory Council on Historic Preservation were participating agencies.

Information on Submitting Comments: BOEM does not encourage the submittal of anonymous comments. Please include your name and address as part of your comment. BOEM makes your comment, including your name and address, available for public review online and during regular business hours. You may request that BOEM withhold your name, address, or any other personally identifiable information (PII) included in your comment from the public record; however, BOEM cannot guarantee that it will be able to do so. If you wish your name, address, or other PII to be withheld, you must state your request prominently in a cover letter and explain the harm that you fear from its disclosure such as unwarranted privacy invasion, embarrassment, or injury. Even if BOEM withholds your information in the context of this notice, your comment is subject to the Freedom of Information Act (FOIA) and any relevant court orders. If your comment is requested under FOIA or a relevant court order, your information will only be withheld if a determination is made that one of the FOIA's exemptions to disclosure applies or if the relevant court order is challenged. Such a determination will be made in accordance with the Department of the Interior's FOIA regulations and applicable law.

Please label privileged or confidential information as “Contains Confidential Information,” and consider submitting such information as a separate attachment. Information that is not labeled as privileged or confidential may be regarded by BOEM as suitable for public release. Consistent with section 304 of the NHPA (54 U.S.C. 307103(a)) and after consultation with the Secretary, BOEM is required to withhold the location, character, or ownership of historic resources if it determines that disclosure may, among other things, risk harm to the historic resources or impede the use of a traditional religious site by practitioners. Tribal entities should designate information that falls under section 304 of NHPA as confidential.

All submissions from organizations or businesses and from individuals identifying themselves as representatives or officials of organizations or businesses will be made available for public inspection in their entirety.

Authority: 42 U.S.C. 4231 et seq. (NEPA, as amended) and 40 CFR 1506.6.

Karen J. Baker,
Chief, Office of Renewable Energy Programs, Bureau of Ocean Energy Management.

[FR Doc. 2023-10691 Filed 5-18-23; 8:45 am]

BILLING CODE 4340-98-P